DEPARTMENT OF THE INTERIOR

Fish and Wildlife Service

[FWS-HQ-ES-2023-N012; FXES11130900000/234/FF09E32000; OMB Control Number 1018-0095]

Agency Information Collection Activities; Submission to the Office of Management and Budget for Review and Approval; Endangered and Threatened Wildlife, Experimental Populations

AGENCY: Fish and Wildlife Service, Interior.

ACTION: Notice of information collection; request for comment.

SUMMARY: In accordance with the Paperwork Reduction Act of 1995, we, the U.S. Fish and Wildlife Service (Service), are proposing to renew an existing information collection without change.

DATES: Interested persons are invited to submit comments on or before April 19, 2023.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0095” in the subject line of your comments.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On October 4, 2022, we published in the Federal Register (87 FR 60197) a notice of our intent to request that OMB approve this information collection. In that notice, we solicited comments for 60 days, ending on December 5, 2022. In an effort to increase public awareness of, and participation in, our public commenting processes associated with information collection requests, the Service also published the Federal Register notice on Regulations.gov (Docket FWS-HQ-ES-2022-0140) to provide the public with an additional method to submit comments (in addition to the typical Info_Coll@fws.gov email and U.S. mail submission methods). We received the following comments in response to that notice:

Comment 1: Electronic comment received via Regulations.gov (FWS-HQ-ES-2022-0140-0002) from Jean Publiee on October 7, 2022. The comment did not address the information collection requirements.

Agency Response to Comment 1: No response required.

Comment 2: Anonymous electronic comment received via Regulations.gov (FWS-HQ-ES-2022-0140-0003) on October 19, 2022. The comment did not address the information collection requirements.

Agency Response to Comment 2: No response required.

Comment 3: Anonymous electronic comment received via Regulations.gov (FWS-HQ-ES-2022-0140-0004) on December 5, 2022. The comment did not address the information collection requirements.

Agency Response to Comment 3: No response required.

Comment 4: Electronic comment received via Regulations.gov (FWS-HQ-ES-2022-0140-0005) from Francisco Santiago-Avila on December 2, 2022. Mr. Santiago-Avila supports this information collection and provides suggestions on ways to enhance the quality, utility, and clarity of the information to be collected. Specifically, he suggests collaboration with volunteers to perform monitoring, recommends publication of specific mortality data, and recommends analyzing the effectiveness of management interventions.

Agency Response to Comment 4: We appreciate Mr. Santiago-Avila's suggestions and acknowledge that many of the recommended actions are already under way. This information collection includes all experimental population monitoring and reporting requirements described by regulation under 50 CFR 17.84, where species-specific requirements are described in further detail. It is the responsibility of the lead office for an experimental population to engage with the public for any assistance needed for the monitoring of these populations, if appropriate. The lead field office tracks, manages, and analyzes mortality data, as appropriate for the species, as part of the requirement to periodically evaluate the success or failure of the reintroduction. The requirements for the periodic evaluation of effectiveness are also specified in each species-specific experimental population final rule.

Publishing location-specific mortality information, as the commenter suggested, is not feasible because it could result in an increased risk of illegal/unauthorized take. Furthermore, for monitoring the effectiveness of management interventions, it is not always feasible to measure effectiveness of indirect preventative techniques due to the variability in year-to-year variation in where experimental populations overlap with livestock, and landowners are not required to report on their use of indirect preventative techniques to the Service as they are often voluntary measures.

Comment 5: Electronic comment received via Regulations.gov (FWS-HQ-ES-2022-0140-0006) from Michael Robinson on December 5, 2022. Mr. Robinson suggested additional categories of information that could be collected under this information collection, including: (1) preventative techniques implemented to protect livestock from predation by animals in an experimental population, (2) time elapsed between initial and subsequent predations on livestock by a particular animal of an experimental population, (3) information regarding illegal take of animals of experimental populations, and (4) identities of individuals having or intending to illegally take animals of experimental populations.

Agency Response to Comment 5: Mr. Robinson's suggestions for information collection include data that are already collected and tracked by Service employees as specified in 50 CFR part 17 subpart H (existing data collections approved under OMB Control Number 1018-0095), as well as in each species-specific final rule issued by the Service establishing an experimental population. If we issue a permit for take of a listed animal of an experimental population relative to depredation prevention, the reporting requirements would be specified under the permit's terms and conditions and be covered under OMB Control Number 1018-0094. The Service acknowledges the importance of this type of information and affirms that this information is being collected in this collection or within 1018-0094.

Additionally, the commenter's third and fourth suggestions request information regarding investigations performed by the Service's Office of Law Enforcement. This information cannot be shared during ongoing investigations; however, once investigations are resolved, the outcomes of cases may be shared at https://www.fws.gov/program/office-of-law-enforcement/news.

Comment 6: Electronic comment received via Regulations.gov (FWS-HQ-ES-2022-0140-0007) from Joe Bushyhead on December 5, 2022. Mr. Bushyhead supports the renewal and suggests that the information collection include mandatory reporting and that information collection should be conducted at regular intervals with subsequent public disclosure, as appropriate.

Agency Response to Comment 6: The Service cannot require the public or its partners to report on information broadly. However, if we issue a permit for take of a listed animal of an experimental population, the reporting requirements would be specified under the permit's terms and conditions and be covered under OMB Control Number 1018-0094. Where specific reporting requirements exist with regards to permits, especially as to whether the reporting is mandatory, would be contained in that permit's terms and conditions. Failure to adhere to the terms of the permit could result in permit revocation or non-renewal. The required timing interval for reporting of take, if any, is specified in each species' specific regulations under 50 CFR 17.84.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Section 10(j) of the Endangered Species Act of 1973, as amended (ESA; 16 U.S.C. 1531 et seq.), authorizes the Secretary of the Interior to establish experimental populations of endangered or threatened species. Because the ESA protects individuals of experimental populations, the information we collect is important for monitoring the success of reintroduction and recovery efforts. This is a nonform collection (meaning there is no designated form associated with this collection). Regulations at 50 CFR 17.84 contain information collection requirements for experimental populations of vertebrate endangered and threatened species. These regulations identify and describe the three categories of information we collect, which include:

(1) General take or removal. “Take” is defined by the ESA as “[to] harass, harm, pursue, hunt, shoot, wound, kill, trap, capture, or collect, or to attempt to engage in any such conduct.” In this information collection, take most commonly is considered to be in the form of human-related mortality, including:

a. Unintentional taking incidental to otherwise lawful activities (e.g., highway mortalities);

b. Animal husbandry actions authorized to manage the population (e.g., translocation or providing aid to sick, injured, or orphaned individuals);

c. Take in defense of human life;

d. Take related to defense of property (if authorized); or

e. Take in the form of authorized harassment.

(2) Depredation-related take. Involves take for management purposes of documented livestock depredation, and may include authorized harassment or authorized lethal take of experimental population animals in the act of attacking livestock. See 50 CFR 17.84 for specific provisions of harassment for each species within this section.

The information that we collect includes:

a. Name, address, and phone number of reporting party,

b. Species involved,

c. Type of incident,

d. Quantity of take,

e. Location and time of the reported incident, and

f. Description of the circumstances related to the incident.

(3) Specimen collection, recovery, or reporting of dead individuals. This information documents incidental or authorized scientific collection. Most of the information collected addresses the reporting of sightings of experimental population animals or the inadvertent discovery of an injured or dead individual.

Service recovery specialists use this information to determine the success of reintroductions in relation to established recovery plan goals for the experimental populations of vertebrate endangered and threatened species involved. In addition, this information helps us to assess the effectiveness of control activities in order to develop better means to reduce problems with livestock for those species where depredation is a problem.

Title of Collection: Endangered and Threatened Wildlife, Experimental Populations, 50 CFR 17.84.

OMB Control Number: 1018-0095.

Form Numbers: None.

Type of Review: Extension without change of a currently approved collection.

Respondents/Affected Public: Individuals and households, private sector, and State/local/Tribal governments.

Respondent's Obligation: Voluntary.

Frequency of Collection: On occasion.

Total Estimated Annual Nonhour Burden Cost: None.

Requirement | Annual number of respondents | Total annual responses | Completion time per response | Total annual burden hours *
Notification—General Take or Removal
Individuals | 12 | 12 | .5 | 6
Private Sector | 7 | 7 | .5 | 4
Government | 29 | 29 | .5 | 15
Notification—Depredation-Related Take
Individuals | 25 | 25 | .5 | 13
Private Sector | 2 | 2 | .5 | 1
Government | 9 | 9 | .5 | 5
Notification—Specimen Collection
Individuals | 3 | 3 | .5 | 2
Private Sector | 2 | 2 | .5 | 1
Government | 16 | 16 | .5 | 8
Totals | 105 | 105 |  | 55
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-05550 Filed 3-17-23; 8:45 am]

BILLING CODE 4333-15-P